DEPARTMENT OF STATE

[Public Notice: 10639]

Notice of Public Meeting

The Department of State will conduct an open meeting at 1:00 p.m. Eastern Standard Time on Wednesday, February 12, 2019, in room 6I10-01-A of the Douglas A. Munro Coast Guard Headquarters Building at St. Elizabeth's, 2703 Martin Luther King Jr. Avenue SE, Washington, DC, 20593. The primary purpose of the meeting is to prepare for the sixth session of the International Maritime Organization's (IMO) Sub-Committee on Pollution Prevention and Response (PPR 6) to be held at the IMO Headquarters, United Kingdom, on February 18-22, 2019.

The agenda items to be considered include:

—Adoption of the agenda.

—Decisions of other IMO bodies.

—Safety and pollution hazards of chemicals and preparation of consequential amendments to the IBC Code.

—Revised guidance on ballast water sampling and analysis.

—Revised guidance on methodologies that may be used for enumerating viable organisms.

—Amendment of annex 1 to the AFS Convention to include controls on cybutryne, and consequential revision of relevant guidelines.

—Consideration of the impact on the Arctic of emissions of Black Carbon from international shipping.

—Consistent implementation of regulation 14.1.3 of MARPOL Annex VI.

—Amendments to regulation 14 of MARPOL Annex VI to require a dedicated sampling point for fuel oil.

—Standards for shipboard gasification of waste systems and associated amendments to regulation 16 of MARPOL Annex VI.

—Review of the 2015 Guidelines for Exhaust Gas Cleaning Systems (resolution MEPC.259(68)).

—Development of measures to reduce risks of use and carriage of heavy fuel oil as fuel by ships in Arctic waters.

—Review of the IBTS Guidelines and amendments to the IOPP Certificate and Oil Record Book.

—Amendments to the 2012 Guidelines on implementation of effluent standards and performance tests for sewage treatment plants (resolution MEPC.227(64)) to address inconsistencies in their application.

—Guide on practical methods for the implementation of the OPRC Convention and the OPRC-HNS Protocol.

—Unified interpretation to provisions of IMO environment-related conventions.

—Biennial agenda and provisional agenda for PPR 7.

—Election of Chair and Vice-Chair for 2020.

—Any other business.

—Report to the Marine Environment Protection Committee.

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Ms. Melissa Perera, by email at Melissa.E.Perera@uscg.mil, by phone at (202) 372-1446, or in writing at 2703 Martin Luther King Jr. Ave. SE, Stop 7509, Washington DC 20593-7509, not later than February 5, 2019, five business days prior to the meeting. Requests made after February 5, 2019 might not be able to be accommodated.

Please note that due to security considerations, two valid, government issued photo identifications must be presented to gain entrance to the Coast Guard Headquarters building. The building is accessible by taxi, public transportation, and privately owned conveyance (upon request).

Joel C. Coito,
Coast Guard Liaison Officer, Office of Ocean and Polar Affairs, Department of State.

[FR Doc. 2018-27725 Filed 12-20-18; 8:45 am]

BILLING CODE 4710-09-P